DEPARTMENT OF DEFENSE

Office of the Secretary

[DOD-2006-OS-0067]

Privacy Act of 1974; System of Records

AGENCY: Office of the Secretary, DoD.

ACTION: Notice to delete systems of records.

SUMMARY: The Office of the Secretary of Defense is deleting a system of records notice from its existing inventory of records systems subject to the Privacy Act of 1974, (5 U.S.C. 552a), as amended.

DATES: This proposed action will be effective without further notice on May 22, 2006 unless comments are received which result in a contrary determination.

ADDRESSES: OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: April 17, 2006.
L.M. Bynum,
OSD Federal Register Liaison Officer, Department of Defense.

DODDS 27

System name:

DoD Domestic and Elementary School Employee File (May 9, 2003, 68 FR 24935).

Reason: The records contained in this system of records are covered by OPM/GOVT-1 (General Personnel Records), a government wide system notice.

[FR Doc. 06-3802 Filed 4-20-06; 8:45 am]

BILLING CODE 5001-06-M